DEPARTMENT OF THE INTERIOR

National Indian Gaming Commission

Submission of Information Collection Under the Paperwork Reduction Act; Reinstatement

AGENCY: National Indian Gaming Commission, Interior.

ACTION: Notice.

SUMMARY: The National Indian Gaming Commission (“NIGC” or “Commission”), in accordance with the Paperwork Reduction Act, is seeking reinstatement of the approval for collection of information for the following information collection activities: (1) Compliance and Enforcement under the Indian Gaming Regulatory Act (IGRA); (2) Privacy Act Procedures; (3) Approval of Class II/Background Investigation Tribal Licenses; (4) Management Contract Regulations; (5) Freedom of Information Act Procedures; (6) National Environmental Policy Act Procedures; (7) Annual Fees Payable by Indian Gaming Operations; (8) Issuance of Certificates of Self Regulation to Tribes for Class II Gaming; (9) Minimum Internal Control Standards. These information collections have expired.

DATES: Submit comments on or before July 18, 2008.

ADDRESSES: Comments can be mailed directly to the Office of Information and Regulatory Affairs, OMB, Attn: Desk Officer for the National Indian Gaming Commission, 725 17th Street, NW., Washington, DC 20503, or mailed, faxed, or e-mailed to the attention of Michael Gross or Regina McCoy, National Indian Gaming Commission, 1441 L Street, NW., Washington, DC 20005. Comments may be faxed to 202-632-7066 (not a toll-free number). Comments may be sent electronically to info@nigc.gov, subject: pra reinstatements.

FOR FURTHER INFORMATION CONTACT: Michael Gross or Regina McCoy, at (202) 632-7003; fax (202) 632-7066 (not toll-free numbers).

SUPPLEMENTARY INFORMATION:

I. Request for Comments

You are invited to comment on the following items to the Desk Office at OMB at the citation in the ADDRESSES section.

(a) Whether the collection of information is necessary for the proper performance of the functions of the agency, including whether the information will have practical utility;

(b) The accuracy of the agency's estimate of the burden (including the hours and cost) of the proposed collection of information, including the validity of the methodology and assumption used;

(c) Ways to enhance the quality, utility, and clarity of the information to be collected;

(d) Ways to minimize the burden of the collection of information on those who are to respond, including through the use of appropriate automated, electronic, mechanical, or other collection techniques or forms of information technology.

Comments submitted in response to this notice will be summarized and become a matter of public record.

OMB has up to 60 days to make a decision but may decide after 30 days; therefore, your comments will receive maximum consideration if received during the 30-day period.

We will not request nor sponsor a collection of information, and you need not respond to such a request, if there is no valid Office of Management and Budget Control Number.

II. Data

Title: Compliance and Enforcement.

OMB Control Number: 3141-0001.

Background: The Indian Gaming Regulatory Act (25 U.S.C. 2701 et seq.) (IGRA) governs the regulation of gaming on Indian lands. Although the IGRA places primary responsibility with the tribes for regulating gaming, Section 2706(b) directs the NIGC to monitor gaming conducted on Indian lands on a continuing basis. IGRA authorizes the NIGC to access and inspect all papers, books and records relating to gaming conducted on Indian lands. IGRA also requires tribes to provide NIGC with annual independent audits of gaming, including contracts in excess of $25,000.00. 25 U.S.C. 2710(b)(2)(c), (d); 25 U.S.C. 2710(d)(1)(A)(ii). In accordance with these statutory responsibilities, 25 CFR 571.7 requires Indian gaming operations to keep permanent financial records. 25 CFR 571.12 and 571.13 require, respectively, an annual independent audit of a tribe's gaming operations and submission of this audit to the NIGC. The NIGC uses this information to fulfill its statutory responsibility to monitor Indian gaming. Additionally, Section 2713 of IGRA authorizes the Chairman to issue civil fine assessments and closure orders for violations of the Act or the Commission's regulations. This authority is implemented through 25 CFR part 575. The full Commission reviews these matters on appeal under 25 CFR part 577.

Brief Description of Collection: This collection is mandatory and allows the NIGC to conduct its statutory duty to regulate Indian gaming. No additional burden is imposed by the requirements to maintain customary business records and to allow NIGC personnel access to those records.

Respondents: Indian tribal gaming operations.

Estimated Number of Respondents: 387.

Estimated Annual Responses: 1,194.

Estimated Time per Response: The range of time can vary from no additional burden hours to 50 burden hours for one item.

Frequency of Response: Varies.

Estimated Total Annual Burden on Respondents: 3,424.

Title: Privacy Act Procedures.

OMB Control Number: 3141-0002.

Background: On October 17, 1988, Congress enacted the Indian Gaming Regulatory Act (“IGRA” or “Act”), 25 U.S.C. 2701-21, creating the National Indian Gaming Commission (“NIGC” or “Commission”) and developing a comprehensive framework for the regulation of gaming on Indian lands. 25 U.S.C. 2702. Congress enacted the Privacy Act in 1974. Under the Privacy Act, individuals are allowed to request access to documents under the control of the NIGC that are maintained under a personal identifier unique to the individual. 25 CFR Part 515.3 lists the requirements for making Privacy Act requests. 25 CFR Part 515.6 lists the requirements for appealing an adverse determination on the release of information. 25 CFR 515.7 explains how to make a request for amendment to a record.

Brief Description of Collection: This collection is mandatory and the benefit to the respondents is processing of their request to view records maintained on themselves.

Respondents: Individuals and submission is mandatory.

Estimated Number of Respondents: 2.

Estimated Time per Response: 10 hours.

Frequency of Response: Varies.

Estimated Total Annual Hourly Burden to Respondents: 20 total annual hours of burden.

Title: Approval of Class II and Class III Ordinances, Background Investigations and Gaming Licenses.

OMB Control Number: 3141-0003.

Background: The IGRA establishes the National Indian Gaming Commission to oversee Indian gaming. IGRA sets standards for the regulation of gaming including requirements for approval or disapproval of tribal gaming ordinances. IGRA section 2705(a)(3) requires the Chairman to review all class II and class III tribal gaming ordinances.

In accordance with this provision, 25 CFR 552.2 of the NIGC's regulations requires tribes to submit to the NIGC: (1) A copy of the gaming ordinance to be approved, including a copy of the authorizing resolution by which it was enacted by the tribal government and a request for approval of the ordinance or resolution; (2) a description of procedures the tribe will employ in conducting background investigations on key employees or primary management officials; (3) a description of procedures the tribe will use to issue licenses to primary management officials and key employees; (4) copies of all gaming regulations; (5) a copy of any applicable tribal—state compact; (6) a description of dispute resolution procedures for disputes arising between the gaming public and the tribe or management contractor; (7) identification of the law enforcement agency that will take fingerprints and a description of the procedures for conducting criminal history checks; and (8) designation of an agent for service of process.

Under 25 CFR 522.3, tribes must submit any amendment to the ordinance or resolution for approval by the Chairman. In this instance, the tribe must provide a copy of the authorizing resolution. The NIGC will use the information collected to approve or disapprove the ordinance or amendment.

Section 2710 of IGRA requires tribes to conduct background investigations on key employees and primary management officials involved in class II and class III gaming. 25 CFR 556 and 558 require tribes to perform each investigation using information such as name, address, previous employment records, previous relationships with either Indian tribes or the gaming industry, licensing relating to those relationships, any convictions, and any other information a tribe feels is relevant to the employment of the individuals being investigated. Tribes are then required to submit to the NIGC a copy of the completed employment applications and investigative reports and licensing eligibility determinations on key employees or primary management officials before issuing gaming licenses to those persons. The NIGC uses this information to review the eligibility/suitability determinations tribes make and advises them if it disagrees with any particular determination.

Brief Description of Collection: This collection is mandatory and allows the NIGC to carry out its statutory duties and gives the respondents standards for compliance.

Respondents: Indian tribal gaming operations.

Estimated Number of Respondents: 282.

Estimated Time per Response: The range of time can vary from .5 burden hours to 80 burden hours for one item.

Frequency of Response: Varies.

Estimated Total Annual Burden Hours on Respondents: 36,973 hours.

Title: Management Contract Regulations

OMB Control Number: 3141-0004.

Background: Under Sections 2710(e) and 2711 of the Indian Gaming Regulatory Act (IGRA), subject to the approval of the NIGC Chairman, an Indian tribe may enter into a gaming management contract for the operation and management of a tribal gaming activity. In approving a management contract, by the terms of the statute, the Chairman shall require and obtain the following: Name, address, and other pertinent background information on each person or entity having a financial interest in, or management responsibility for such contract, and in the case of a corporation those individuals who serve on the board of directors of such corporation and certain stockholders; a description of previous experience that each person has had with other Indian gaming contracts or with the gaming industry including any gaming licenses which the person holds; and a complete financial statement of each person listed.

Under 25 CFR part 533, the Chairman requires the submission of the contract to contain the following: Original signatures, any collateral agreements to the contract, a tribal ordinance or resolution authorizing the submission and supporting documentation, a three-year business plan which sets forth the parties' goals, objectives, budgets, financial plans, related matters, income statements, sources and use of funds statements for the previous three years, and, for any contract exceeding five years or which includes a management fee of more than 30 percent, justification that the capital investment required and income projections for the gaming operation require the longer duration or the additional fee.

Under 25 CFR part 535, the Chairman may approve a modification to a management contract or an assignment of that management contract based on information similar to that required under part 533. The part also specifies that the Chairman may void a previous management contract approval and allows the parties the opportunity to submit information relevant to that determination.

25 CFR part 537 specifies the requirements for submission of background information in amplification of the statutory requirement for obtaining information on persons and entities having a direct financial interest in or management responsibility for a management contract. Finally, 25 CFR part 539 permits appeals to the Commission from a decision of the Chairman to disapprove a management contract and allows the Indian tribe and the management company an opportunity to provide information relevant to that appeal. The NIGC will use the information collected to either approve or disapprove the contract or, in the case of an appeal, to grant or deny the appeal.

Brief Description of Collection: This collection is mandatory, and the benefit to the respondents is the approval of Indian gaming management contracts.

Respondents: Tribal governing bodies and management contractors.

Estimated Number of Respondents: 201 (submission of contracts, contract amendments, and background investigation submissions).

Estimated Time per Response: The range of time can vary from no added burden hours to 70 burden hours for one item.

Frequency of Response: Usually no more than once a year.

Estimated Total Annual Hourly Burden to Respondents: 6,540.

Title: Freedom of Information Act Procedures.

OMB Control Number: 3141-0005.

Background: On October 17, 1988, Congress enacted the Indian Gaming Regulatory Act (“IGRA” or “Act”), 25 U.S.C. 2701-21, creating the National Indian Gaming Commission (“NIGC” or “Commission”) and developing a comprehensive framework for the regulation of gaming on Indian lands. 25 U.S.C. 2702. Congress enacted the FOIA in 1966 and last modified it on December 31, 2007. Under the FOIA, individuals are allowed to request access to documents under the control of the NIGC. 25 CFR Part 517.4 lists the requirements for making FOIA requests to the NIGC. 25 CFR Part 517.7 explains how the NIGC handles requests for information that is confidential commercial information. 25 CFR Part 517.8 lists the requirements for appealing an adverse determination on the release of information.

Brief Description of Collection: This collection is mandatory and the benefit to the respondents is processing of their FOIA requests.

Respondents: Individuals, businesses, state, local, and Tribal governments and submission is mandatory.

Estimated Number of Respondents: 100.

Estimated Time per Response: The estimated total time is 6.9 hours.

Frequency of Response: Varies.

Estimated Total Annual Hourly Burden to Respondents: 690 hours.

Title: Proposed NEPA Procedures Manual.

OMB Control Number: 3141-0006.

Background: NEPA requires federal agencies to analyze proposed major federal actions that significantly affect the quality of the human environment. The NIGC has identified one type of action it undertakes that requires review under NEPA—approving third-party management contracts for the operation of gaming activity under the Indian Gaming Regulatory Act (“IGRA”), 25 U.S.C. 2711. Depending on the nature of the subject contract and other circumstances, approval of such management contracts may be categorically excluded from NEPA, it may require the preparation of an Environmental Assessment (“EA”), or it may require the preparation of an Environmental Impact Statement (“EIS”). In any case, the proponents of a management contract will be expected to submit information to the NIGC and assist in the development of the required NEPA documentation. Possible respondents for this information collection include tribal governing bodies, gaming management companies, and environmental consultants.

Brief Description of Collection: This collection is mandatory according to the Proposed NEPA Procedures Manual, the National Environmental Policy Act (NEPA), 42 U.S.C. 4321, et seq., and White House Council on Environmental Quality regulations, 40 CFR 1500-1508.

Respondents: Tribal governing bodies, management companies, and environmental consultants.

Estimated Number of Respondents: 7.

Estimated Time per Response: The range of time can vary from 1,300 to 4,500 hours per response. This is a change of 2,700 hours per EIS response. No change to hours per EA response.

Frequency of Response: Annually.

Estimated Total Annual Burden on Respondents: 12,300 hours. 12,300 (6 EAs × 1,300 hours) + 4,500 hours for EIS.

Title: Annual Fees Payable by Indian Gaming Operations.

OMB Control Number: 3141-0007.

Background: The Indian Gaming Regulatory Act, 25 U.S.C. 2701 et seq., requires the NIGC to set an annual funding rate. The annual funding rate is the primary mechanism for NIGC funding under 25 U.S.C. 2717, and 25 CFR part 514 implements the requirement. Fees are computed on the basis of the assessable gross revenues of each gaming operation using rates set by the NIGC. The total of all fees assessed annually cannot exceed 0.08 percent of gross gaming revenue. Under its implementing regulation for the fee payment program, 25 CFR part 514, the NIGC relies on a quarterly statement of gross gaming revenues provided by each gaming operation that is subject to the fee requirement. The required information is needed for the NIGC to both set and adjust fee rates and to support the computation of fees paid by each gaming operation.

Brief Description of Collection: This collection is mandatory and allows the NIGC to both set and adjust fee rates and to support the computation of fees paid by each gaming operation.

Respondents: Indian tribal gaming operations.

Estimated Number of Respondents: 423.

Estimated Annual Responses: 1,692.

Estimated Time per Response: 2 hours.

Estimated Annual Burden Hours per Respondent: 8.

Frequency of Response: Quarterly.

Estimated Total Annual Burden on Respondents: 3,384 annual burden hours (1,692 annual responses × 2 hours per response).

Title: Issuance of Certificates of Self Regulation to Tribe for Class II Gaming, 25 CFR part 518.

OMB Control Number: 3141-0008

Background:

The Indian Gaming Regulatory Act, 25 U.S.C. 2701 et seq., allows any Indian tribe that has conducted class II gaming for at least three years to petition the NIGC for a certificate of self-regulation for its class II gaming operations. The NIGC will issue the certificate if it determines from available information that the tribe has conducted its gaming activity in a manner which has resulted in an effective and honest accounting of all revenues, a reputation for safe, fair, and honest operation of the activity, and an enterprise free of evidence of criminal or dishonest activity. The tribe must also have adopted and implemented proper accounting, licensing, and enforcement systems and conducted the gaming operation on a fiscally or economically sound basis. The implementing regulation of the NIGC, 25 CFR part 518, requires a tribe interested in receiving the certificate to file a petition with the NIGC describing, generally, the tribe's gaming operations, its regulatory process, its uses of net gaming revenue, and its accounting and record keeping systems for the gaming operation. The tribe must also provide copies of various documents in support of the petition. Submission of the petition and supporting documentation is voluntary. The NIGC will use the information submitted by the respondent tribe determining on whether to issue the certificate of self-regulation.

Those tribes who have been issued a certificate of self-regulation are required to submit annually a report to the NIGC. Such report shall set forth information to establish that the tribe has continuously met the eligibility requirements of 25 CFR part 518.2 and the approval requirements of 25 CFR part 518.4 and shall include a report with supporting documentation which explains how tribal gaming revenues were used in accordance with the requirements of 25 U.S.C. 2710(b)(2)(B).

Brief Description of Collection: This collection is voluntary for those tribes petitioning for a certificate of self-regulation and mandatory for those tribes who hold a certificate of self-regulation according to statutory regulations, and the benefit to the respondents is a reduction of the amount of fees assessed on class II gaming revenue by the NIGC.

Respondents: Tribal governments; tribes who hold certificates of self-regulation; petition submission is voluntary; annual report submission is mandatory.

Estimated Number of Voluntary Respondents: 0.

Estimated Time per Voluntary Response: 0.

Frequency of Response: At will.

Estimated Total Annual Hourly Burden to Voluntary Respondents: 0.

Number of Mandatory Respondents: 2.

Estimated Time per Mandatory Response: 50.

Frequency of Mandatory Response: Annual.

Estimated Total Annual Hourly Burden to Mandatory Respondents: 100.

Title: Minimum Internal Control Standards

OMB Control Number: 3141-0009

Background: The Indian Gaming Regulatory Act (25 U.S.C. 2701 et seq.) (IGRA) governs the regulation of gaming on Indian lands. Although the IGRA places primary responsibility with the tribes for regulating gaming, Section 2706(b) directs the NIGC to monitor gaming conducted on Indian lands on a continuing basis. IGRA authorizes the NIGC to access and inspect all papers, books and records relating to gaming conducted on Indian lands. In accordance with these statutory responsibilities, 25 CFR 542.3(c) requires Class II and limited Class III Indian tribal gaming regulatory authorities to establish and implement tribal internal control standards that provide a level of control that equals or exceeds those set out in part 542, establishing internal control standards. 25 CFR 542.3(d) requires each affected gaming operation to develop and implement internal control standards that, at a minimum, comply with the tribal internal control standards established by the tribal gaming regulatory authority.

Brief Description of Collection: This collection is mandatory according to statutory regulations, and allows the NIGC to confirm tribal compliance with the standards contained in the Agreed-Upon-Procedures report.

Respondents: Tribal governing bodies

Estimated Number of Respondents: 387

Estimated Time per Response: 1 hour

Frequency of Response: Annually

Estimated Total Annual Hourly Burden to Respondents: 387 hours

Dated: June 12, 2008.
Philip N. Hogen,
Chairman.
Norman H. DesRosiers,
Commissioner.

[FR Doc. E8-13679 Filed 6-17-08; 8:45 am]

BILLING CODE 7565-01-P